ENVIRONMENTAL PROTECTION AGENCY

40 CFR Part 52

[LA-35-2-7339b; FRL-7234-4]

Approval and Promulgation of Implementation Plans; Louisiana; Control of Emissions of Volatile Organic Compounds From Industrial Wastewater Facilities

AGENCY: Environmental Protection Agency (EPA).

ACTION: Proposed rule.

SUMMARY: We, the EPA, are proposing to take direct final action to approve revisions to the Louisiana State Implementation Plan (SIP). The revisions incorporate regulations to control Volatile Organic Compound (VOC) emissions from industrial wastewater facilities by means of Reasonable Available Control Technology (RACT).

DATES: Written comments must be received by July 22, 2002.

ADDRESSES: Written comments should be addressed to Mr. Thomas H. Diggs, Chief, Air Planning Section (6PDL), at the EPA Region 6 Office listed below. Copies of documents relevant to this action are available for public inspection during normal business hours at the following locations. Anyone wanting to examine these documents should make an appointment with the appropriate office at least 24 hours in advance.

Environmental Protection Agency, Region 6, Air Planning Section (6PD-L), 1445 Ross Avenue, Suite 700, Dallas, Texas 75202-2733

Louisiana Department of Environmental Quality, Air Quality Division, H. B. Garlock Building, 7290 Bluebonnet Blvd., Baton Rouge, LA 70810

FOR FURTHER INFORMATION CONTACT: Joe Kordzi of the EPA Region 6 Air Planning Section, at (214) 665-7186 and at the Region 6 address above.

SUPPLEMENTARY INFORMATION: In the “Rules and Regulations” section of this Federal Register, we are approving the State's request as a direct final rule without prior proposal because we view this as a noncontroversial revision and anticipate no adverse comment. We have explained our reasons for this approval in the preamble to the direct final rule. If we receive no relevant adverse comment, we will not take further action on this proposed rule. If we receive relevant adverse comment, we will withdraw the direct final rule and it will not take effect. We will address all public comments in a subsequent final rule based on this proposed rule. We will not institute a second comment period on this action. Any parties interested in commenting must do so at this time.

For further information, please see the information provided in the direct final action that is located in the “Rules and Regulations” section of this Federal Register publication.

Authority: 42 U.S.C. 7401 et seq.

Dated: June 9, 2002.
Lawrence E. Starfield,
Acting Regional Administrator, Region 6.

[FR Doc. 02-15454 Filed 6-19-02; 8:45 am]

BILLING CODE 6560-50-P